Proclamation 10471 of October 7, 2022

Leif Erikson Day, 2022

By the President of the United States of America

A Proclamation

Over 1,000 years ago, Leif Erikson, son of Iceland and grandson of Norway, embarked on a historic journey across the Atlantic, landing on the shores of North America. Widely believed to be the first Europeans to set foot on this continent, he and his crew embodied traits that would come to define a uniquely American spirit—restless and bold, brave and optimistic, and in search of a better future. This same spirit would guide generations of Danes, Finns, Icelanders, Norwegians, and Swedes to immigrate and build new lives in the United States. It would lead countless families to plant roots in the Great Lakes States, the northern Great Plains, and enclaves across the Nation. It remains ingrained in the hearts of roughly 11 million Americans who trace their ancestry to Nordic countries today.

On Leif Erikson Day, we celebrate Nordic-Americans and all the ways they strengthen the fabric of our Nation. They are leaders in business and philanthropy, educators and scholars, artists and inventors, doctors and nurses, first responders, service members, and so much more. In every field and throughout every community, their contributions help bring us closer to making the promise of America real for every American.

On this day, we also reaffirm our strong partnerships with Nordic nations and their people. Our mutual commitments to greater peace, security, and stability serve as the bedrock of our democracies and the friendships between our countries. From supporting Ukraine as it defends its freedom against Russia's invasion to advancing human rights, tackling the climate crisis to addressing food insecurity, and strengthening global health to promoting development, we will always work together to tackle the world's most pressing challenges. I am proud that the United States Senate took swift action to ratify Sweden and Finland's accession protocols to join the North Atlantic Treaty Organization. These great democracies and highly capable partners will further fortify the most powerful defensive alliance in the history of the world and bolster our efforts to defend democracy and freedom everywhere.

To honor Leif Erikson and to celebrate Nordic-American heritage, the Congress, by joint resolution (Public Law 88-566) approved on September 2, 1964, has authorized the President of the United States to proclaim October 9th of each year as “Leif Erikson Day.”

NOW, THEREFORE, I, JOSEPH R. BIDEN JR., President of the United States of America, by virtue of the authority vested in me by the Constitution and the laws of the United States, do hereby proclaim October 9, 2022, as Leif Erikson Day. I call upon all Americans to celebrate the contributions of Nordic Americans to our Nation with appropriate ceremonies, activities, and programs.

IN WITNESS WHEREOF, I have hereunto set my hand this seventh day of October, in the year of our Lord two thousand twenty-two, and of the Independence of the United States of America the two hundred and forty-seventh.

[FR Doc. 2022-22407

Filed 10-12-22; 8:45 am]

Billing code 3395-F3-P